DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of 6 individuals whose property and interests in property are blocked pursuant to Executive Order 13224 of September 23, 2001, “Blocking Property and Prohibiting Transactions With Persons Who Commit, Threaten To Commit, or Support Terrorism.”

DATES: OFAC's actions described in this notice were effective on May 19, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On May 19, 2016, OFAC blocked the property and interests in property of the following 6 individuals pursuant to E.O. 13224, “Blocking Property and Prohibiting Transactions With Persons Who Commit, Threaten To Commit, or Support Terrorism”:

Individuals

1. AL-'ANIZI, 'Abdallah Hadi 'Abd al-Rahman Fayhan Sharban (a.k.a. AL-'ANIZI, 'Abdallah Hadi 'Abd-al-Rahman Fihan Sharyan; a.k.a. AL-'ANIZI, 'Abdallah Hadi 'Abd-al-Rahman Fihan Shiryan; a.k.a. AL-'ANIZI, 'Abdullah Hadi 'Abd al-Rahman Fayzan Sharifan; a.k.a. AL-'ANZI, 'Abdallah Hadi 'Abd al-Rahman Fayhan Sharban; a.k.a. AL-ANZI, 'Abdallah Hadi 'Abd al-Rahman Fayhan Sharyan; a.k.a. AL-ANZI, 'Abdallah Hadi 'Abd al-Rahman Fayzan Sharifan al-Anzi; a.k.a. “AL-KUWAITI, Zubayr”; a.k.a. “AL-ZUBAYR, Abu”), Hawali, Hawali Governorate, Kuwait; DOB 02 Aug 1984; POB Kuwait; citizen Kuwait; Passport 107609169 (Kuwait); Driver's License No. 3284670 expires 21 Aug 2017; Identification Number 284080201511 (individual) [SDGT] (Linked To: AL QA'IDA; Linked To: AL-NUSRAH FRONT).

2. AL-ZAIDI, Ghalib Abdullah (a.k.a. AL-ZAYDI, Ghalib 'Abdallah 'Ali), Yemen; DOB 1975; alt. DOB 1970; POB Raqqah Region, Marib Governorate, Yemen (individual) [SDGT] (Linked To: AL-QA'IDA IN THE ARABIAN PENINSULA).

3. `AMMAR, Salmi Salama Salim Sulayman (a.k.a. “`ASRA, Abu”; a.k.a. “YUSRI”); DOB 01 Jan 1979 to 31 Dec 1979 (individual) [SDGT] (Linked To: ISIL SINAI PROVINCE).

4. AL-MUTAYRI, Abd al-Muhsin Zabin Mutib Naif (a.k.a. AL-MUTAIRI, 'Abd al-Muhsin; a.k.a. AL-MUTAIRI, Abdulmohsen Zeben Mutaab; a.k.a. AL-MUTAYRI, 'Abd al-Muhsin Zaban; a.k.a. AL-MUTAYRI, 'Abd al-Muhsin Zabin Mut'ab; a.k.a. AL-MUTAYRI, 'Abd al-Muhsin Zabin Naif; a.k.a. AL-MUTAYRI, 'Abd al-Muhsin Zibin Mut'ib Nayif; a.k.a. AL-MUTAYRI, 'Abd al-Muhsin Zibn Muta'ab; a.k.a. AL-MUTAYRI, 'Abd al-Muhsin Zubin; a.k.a. AL-MUTAYRI, 'Abd al-Mushin Zabin Mutib Naif; a.k.a. AL-MUTAYRI, 'Abd al-Mushin Zabn; a.k.a. AL-MUTAYRI, Dr. 'Abd al-Muhsin Zabn Mut'ib; a.k.a. AL-MUTAYYIRI, 'Abd al-Muhsin Zabin Mutab Nayif; a.k.a. AL-MUTAYYIRI, 'Abd al-Muhsin Zabn; a.k.a. AL-MUTAYYIRI, 'Abd al-Muhsin Zubyn; a.k.a. AL-MUTAYYRI, 'Abd al-Muhsin; a.k.a. “AL-ZIBIN, Muhsin”; a.k.a. “NAYIF, 'Abd al-Muhsin Zayn Mun'ib”), Kuwait; DOB 01 Jul 1973; POB Kuwait; nationality Kuwait (individual) [SDGT] (Linked To: AL-NUSRAH FRONT).

5. AL-QAYSI, Nayif Salih Salim (a.k.a. AL QAISI, Naif Saleh Salem; a.k.a. AL QAYSI, Nayif Salih Salim; a.k.a. AL-GHAYSI, Nayif), Al-Bayda Governorate, Yemen; Sana, Sana Governorate, Yemen; DOB 01 Jan 1983; POB Albaidah, Yemen; citizen Yemen; Passport 04796738 (Yemen) (individual) [SDGT] (Linked To: AL-QA'IDA IN THE ARABIAN PENINSULA).

6. MAHAMED, Mostafa (a.k.a. ABDEL HAMID, Mostafa Mohamed; a.k.a. FARAG, Mostafa; a.k.a. FARAG, Mostafa Mohamed; a.k.a. “AL AUSTRALI, Abu Sulayman”; a.k.a. “AL MUHAJIR, Abu Sulayman”; a.k.a. “AL USTRALI, Abu Sulayman”; a.k.a. “AL-MASRI, Abu Sulayman”); DOB 14 Feb 1984; POB Port Said, Egypt; nationality Australia; alt. nationality Egypt; Passport M1898709 (Australia) expires 11 Oct 2012; Driver's License No. 13652517 (Australia) expires 19 Apr 2014 (individual) [SDGT] (Linked To: AL-NUSRAH FRONT).

Dated: May 19, 2016.
John E. Smith,
Acting Director, Office of Foreign Assets Control.

[FR Doc. 2016-23069 Filed 9-23-16; 8:45 am]

BILLING CODE 4810-AL-P